ENVIRONMENTAL PROTECTION AGENCY

[FRL-7506-4]

Proposed Settlement, Clean Air Act Citizen Suit

AGENCY: Environmental Protection Agency.

ACTION: Notice of proposed consent decree; request for public comment.

SUMMARY: In accordance with section 113(g) of the Clean Air Act, as amended (“CAA” or “Act”), 42 U.S.C. 7413(g), notice is hereby given of a proposed consent decree that the United States Environmental Protection Agency (“EPA”) lodged with the United States District Court for the Northern District of California on May 14, 2003 to address a lawsuit filed by Medical Advocates for Healthy Air, Sierra Club and Latino Issues Forum. Medical Advocates for Healthy Air et. al. v. Whitman, Case No. C-02-5102 CRB( N.D. Cal.). This lawsuit was filed pursuant to section 304(a) of the Act, 42 U.S.C. 7604(a).

DATES: Written comments on the proposed consent decree must be received by July 2, 2003.

ADDRESSES: Written comments should be sent to Jan Taradash, Office of Regional Counsel, U.S. Environmental Protection Agency Region 9, 75 Hawthorne Street, San Francisco, CA 94105. Copies of the proposed consent decree are available from Jan Taber, (415) 972-3900.

SUPPLEMENTARY INFORMATION: This lawsuit concerns EPA's alleged failure to perform certain nondiscretionary duties under the CAA. The consent decree provides that: (1) the Administrator of EPA or her delegatee shall sign no later than March 31, 2004, a notice for publication in the Federal Register proposing a federal implementation plan (“FIP”) to implement the requirements of section 189(b)(1)(B) of the Act, 42 U.S.C. 7513a(b)(1)(B), for the San Joaquin Valley PM-10 nonattainment area; and (2) the Administrator or her delegatee shall sign no later than July 31, 2004, a notice for publication in the Federal Register taking final action to adopt a FIP to implement the requirements of that section for the San Joaquin Valley. Section 189(b)(1)(B) provides that plans for serious PM-10 nonattainment areas must include provisions to assure the implementation of best available control measures. The consent decree also provides that EPA's obligation to promulgate the FIP shall be relieved as to any portions of the plan for which the Administrator or her delegatee signs a notice of final rulemaking by July 31, 2004 approving state implementation plan (“SIP”) revisions for the San Joaquin Valley pursuant to Clean Air Act sections 110(k)(3) and 189(b)(1)(B), 42 U.S.C. 7410(k)(3), 7313a(b)(1)(B).

For a period of thirty (30) days following the date of publication of this notice, EPA will receive written comments relating to the proposed consent decree from persons who were not named as parties to the litigation in question. EPA or the Department of Justice may withhold or withdraw consent to the proposed consent decree if the comments disclose facts or circumstances that indicate that such consent is inappropriate, improper, inadequate, or inconsistent with the requirements of the Act. Unless EPA or the Department of Justice determines, following the comment period, that consent is inappropriate, the final consent decree will then be executed by the parties.

Dated: May 22, 2003.
Lisa K. Friedman,
Associate General Counsel, Air and Radiation Law Office.

[FR Doc. 03-13717 Filed 5-30-03; 8:45 am]

BILLING CODE 6560-50-P